DEPARTMENT OF LABOR

Employment and Training Administration

[TA-W-50,761]

State of Alaska Commercial Fisheries Entry Commission Permit # SO4T (Nick Timurphy), Dillingham, AK; Notice of Termination of Investigation

Pursuant to Section 221 of the Trade Act of 1974, as amended, an investigation was initiated on January 30, 2003 in response to a petition filed by a company official on behalf of the group of workers covered by the State of Alaska Commercial Fisheries Entry Commission Permit # SO4T (Nick Timurphy), Dillingham, Alaska.

The petitioner has requested that the petition be withdrawn. Consequently, further investigation would serve no purpose and the investigation has been terminated.

Signed at Washington, DC this 18th day of March, 2003.
Linda G. Poole,
Certifying Officer, Division of Trade Adjustment Assistance.

[FR Doc. 03-7904 Filed 4-1-03; 8:45 am]

BILLING CODE 4510-30-P